DEPARTMENT OF ENERGY

National Nuclear Security Administration

Notice of Availability of the Final Site-Wide Environmental Impact Statement for Continued Operation of Los Alamos National Laboratory, Los Alamos, NM

AGENCY: U.S. Department of Energy (DOE), National Nuclear Security Administration (NNSA).

ACTION: Notice of Availability.

SUMMARY: NNSA announces the availability of the Final Site-Wide Environmental Impact Statement for Continued Operation of Los Alamos National Laboratory, Los Alamos, New Mexico (Final SWEIS) (DOE/EIS-0380). The Final SWEIS analyzes the potential environmental impacts of continuing to operate Los Alamos National Laboratory (LANL) and addresses public comments received on the Draft SWEIS. NNSA's Preferred Alternative for LANL, as identified in the Draft and Final SWEIS, is the Expanded Operations Alternative. The Final SWEIS also evaluates a No Action Alternative and a Reduced Operations Alternative.

DATES: NNSA will not issue Records of Decision based on the SWEIS before 30 days have passed from the publication of this notice of availability.

ADDRESSES: A copy of the Final SWEIS may be obtained by writing to: U.S. Department of Energy, National Nuclear Security Administration, Los Alamos Site Office, Attn: NEPA Compliance Officer, Environmental Operations, 528 35th Street, Los Alamos, New Mexico 87544.

Requests for copies of the document may also be sent by facsimile ((505) 845-4239); or by E-mail (LANL_SWEIS@doeal.gov) or LASO.SWEIS@doeal.gov. The Final SWEIS will also be available on the NNSA Los Alamos Site Office's NEPA Web site at: http://www.doeal.gov/laso/NEPASWEIS.aspx. Copies of the Final SWEIS are also available for review at the following locations: The Los Alamos Research Library, West Jemez Road, Los Alamos National Laboratory, Los Alamos, New Mexico; the Office of the Northern New Mexico Citizens Advisory Board, 1660 Old Pecos Trail, Suite B, Santa Fe, New Mexico; and, the Zimmerman Library, Central Avenue, University of New Mexico, Albuquerque, New Mexico.

FOR FURTHER INFORMATION CONTACT: For general information on NNSA's NEPA process, please contact: Ms. Alice C. Williams, NA-50, NEPA Compliance Officer, U.S. Department of Energy, National Nuclear Security Administration, 1000 Independence Avenue, SW., Washington, DC 20585, or telephone 1-202-586-6847. For general information about the DOE NEPA process, please contact: Ms. Carol Borgstrom, Director, Office of NEPA Policy and Compliance (GC-20), U.S. Department of Energy, 1000 Independence Avenue SW., Washington, DC 20585, (202) 586-4600, or leave a message at 1-800-472-2756.

SUPPLEMENTARY INFORMATION: The primary purpose and need for continued operation of LANL is to provide support for DOE and NNSA core missions as directed by Congress and the President. NNSA's need to continue operating LANL arises from its obligation to ensure a safe and reliable nuclear weapons stockpile. LANL is also needed to support other Federal agencies, including the Department of Homeland Security. The Final SWEIS analyzed the environmental impacts of operating LANL at different levels. LANL is located in north-central New Mexico and covers an area of about 40 square miles (104 square kilometers). It was established in 1943 as “Project Y” of the Manhattan Project with a single mission—to build the world's first nuclear weapons. After World War II ended, Project Y was designated a permanent research and development laboratory and its work was expanded to incorporate a wide variety of assignments in support of other government and civilian programs. LANL is now a multi-disciplinary, multipurpose institution engaged in theoretical and experimental research and development.

DOE issued a Final SWEIS and Record of Decision in 1999 for the continued operation of the laboratory. DOE regulations implementing NEPA require the evaluation of site-wide NEPA analyses every five years to determine their continued applicability; such a five-year evaluation was initiated for the 1999 SWEIS in 2004, and NNSA subsequently decided to prepare a new SWEIS. A new Draft SWEIS was issued in July 2006 for public review and comment over a 75-day period. NNSA considered the comments received on the Draft SWEIS in preparing the Final SWEIS.

The alternatives evaluated in the Final SWEIS represent a range of operational levels from the minimal reasonable activity levels (Reduced Operations Alternative) to the highest reasonable activity levels that could be supported by current facilities combined with expansion and construction of new facilities (Expanded Operations Alternative). The No Action Alternative would continue current mission support work at LANL and includes actions, facility construction, and other activities for which NEPA analyses have already been completed. All alternatives assumed that NNSA will continue to operate LANL as a national security laboratory for the foreseeable future.

Subsequent Document Preparation: NNSA will consider the environmental impact analysis presented in the Final LANL SWEIS, along with other information, in making decisions regarding the continued operation of LANL. NNSA will wait to issue a ROD for at least 30 days following publication in the Federal Register of this notice of availability. It is anticipated that several RODs may be issued based on the Final SWEIS over the next several years. NNSA will publish all RODs in the Federal Register.

Signed in Washington, DC, this 4th day of April, 2008.
Thomas P. D'Agostino,
Administrator, National Nuclear Security Administration.

[FR Doc. E8-11007 Filed 5-15-08; 8:45 am]

BILLING CODE 6450-01-P